DEPARTMENT OF ENERGY

Update on Reimbursement for Costs of Remedial Action at Active Uranium and Thorium Processing Sites

AGENCY: Department of Energy.

ACTION: Notice of the Title X claims during fiscal year (FY) 2016.

SUMMARY: This Notice announces the Department of Energy's (DOE) acceptance of claims in FY 2016 from eligible active uranium and thorium processing site licensees for reimbursement under Title X of the Energy Policy Act of 1992 (Public Law 102-486, as amended). The Consolidated Appropriations Act, 2016 (Public Law 114-113) provided $32,959,000 for Title X uranium and thorium reimbursements to be made available to the Title X licensees on a prorated basis. The FY 2017 Department of Energy Office of Environmental Management's Congressional Budget Request requests $30 million for the Title X Program.

DATES: The closing date for the submission of FY 2016 Title X claims is September 16, 2016. The claims will be processed for payment together with any eligible unpaid approved claim balances from prior years, based on the availability of funds from congressional appropriations. If the total approved claim amounts exceed the available funding, the approved claim amounts will be reimbursed on a prorated basis. All reimbursements are subject to the availability of funds from congressional appropriations.

ADDRESSES: Claims should be forwarded by certified or registered mail, return receipt requested, to U.S. Department of Energy, Office of Legacy Management, Attn: Deborah Barr, Title X Lead for Review of Reimbursement of Claims, U.S. Department of Energy, Office of Legacy Management, 2597 Legacy Way, Grand Junction, Colorado 81503. Two copies of the claim should be included with each submission.

FOR FURTHER INFORMATION CONTACT: Theresa Kliczewski, Title X Program Coordinator, at (202)586-3301, of the U.S. Department of Energy, Office of Environmental Management, Office of Disposition Planning & Policy.

SUPPLEMENTARY INFORMATION: DOE published a final rule under 10 CFR part 765 in the Federal Register on May 23, 1994, (59 FR 26714) to carry out the requirements of Title X of the Energy Policy Act of 1992 (sections 1001-1004 of Public Law 102-486, 42 U.S.C. 2296a et seq.) and to establish the procedures for eligible licensees to submit claims for reimbursement. DOE amended the final rule on June 3, 2003, (68 FR 32955) to adopt several technical and administrative amendments (e.g., statutory increases in the reimbursement ceilings). Title X requires DOE to reimburse eligible uranium and thorium licensees for certain costs of decontamination, decommissioning, reclamation, and other remedial action incurred by licensees at uranium and thorium processing sites to remediate byproduct material generated resulting from the sales to the United States Government. To be reimbursable, costs of remedial action must be for work that is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR part 765. Funds for reimbursement will be provided from the Uranium Enrichment Decontamination and Decommissioning Fund established at the Department of Treasury pursuant to section 1801 of the Atomic Energy Act of 1954 (42 U.S.C. 2297g). Payment or obligation of funds shall be subject to the requirements of the Anti-Deficiency Act (31 U.S.C. 1341).

Authority: Section 1001-1004 of Public Law 102-486, 106 Stat. 2776 (42 U.S.C. 2296a et seq.).

Issued in Washington DC on May 12, 2016.
Theresa Kliczewski,
Office of Disposition Planning & Policy, Office of Environmental Management.

[FR Doc. 2016-11700 Filed 5-17-16; 8:45 am]

BILLING CODE 6450-01-P